SMALL BUSINESS ADMINISTRATION

Request for Comments on Draft SBA Strategic Plan for FY 2014-2018

AGENCY: Office of Associate Administrator for Performance Management & Chief Financial Officer, Small Business Administration.

ACTION: Request for Comments on Draft SBA Strategic Plan for FY2014-2018.

SUMMARY: The Small Business Administration (SBA) is seeking public comment on its draft Strategic Plan for fiscal years 2014-2018. The draft plan is available on SBA's Web site at http://www.sba.gov/about-sba/sba_performance/strategic_planning.

DATES: Submit comments within two weeks of publication date.

ADDRESSES: Written comments can be provided by email, fax or U.S. mail.

Email: strategicplan@sba.gov.

Fax: (202) 205-7274.

Mail: U.S. Small Business Administration, Office of Performance Management & Chief Financial Officer, Attn: Strategic Plan Comments, 409 3rd St SW., Suite 6000, Washington, DC 20416.

FOR FURTHER INFORMATION CONTACT: Joshua Bull, Joshua.Bull@sba.gov.

SUPPLEMENTARY INFORMATION: The draft Small Business Administration FY2014-2018 Strategic Plan is provided for public input as part of the strategic planning process under the Government Performance and Results Modernization Act of 2010 (GPRA-MA) (Pub. L. 111-352) to ensure that Agency stakeholders are given an opportunity to comment on this plan.

This Strategic Plan provides a framework that will strengthen, streamline, and simplify SBA's programs while leveraging partnerships across the government and private sector to maximize the tools small business owners and entrepreneurs need to strengthen our economy, drive American innovation, and increase our global competitiveness. The SBA will have three overarching goals for the next five years: (1) Grow businesses and create jobs; (2) Serve as the voice for small business; and, (3) Build an Agency that meets the needs of today's and tomorrow's small businesses. Each goal contains objectives which are directly tied to performance both at the individual level and Agency-wide.

The FY2014-2018 Strategic Plan contains only slight modifications to the existing FY2011-2016 Strategic Plan. This draft document chiefly refines the language of existing strategic objectives and strategies while adding two new strategic objectives concerning exports and supply chains, respectively. The text of the draft Strategic Plan FY2014-2018 is available through the SBA's Web site at http://www.sba.gov/about-sba/sba_performance/strategic_planning.

Jonathan I. Carver,
Associate Administrator for Performance Management & Chief Financial Officer.

[FR Doc. 2013-28623 Filed 11-27-13; 8:45 am]

BILLING CODE 8025-01-P